DEPARTMENT OF ENERGY

Federal Energy Regulatory Commission

[Project No. 14751-002]

Alpine Pacific Utilities Hydro, LLC; Notice of Application Tendered for Filing With the Commission and Soliciting Additional Study Requests

Take notice that the following hydroelectric application has been filed with the Commission and is available for public inspection.

a. Type of Application: Original Minor License.

b. Project No.: 14751-002.

c. Date filed: February 1, 2017.

d. Applicant: Alpine Pacific Utilities Hydro, LLC.

e. Name of Project: Fresno Dam Site Water Power Project.

f. Location: On the Milk River, in Hill County, Montana, near the town of Kremlin. The project would be located at the Bureau of Reclamation's Fresno Dam.

g. Filed Pursuant to: Federal Power Act 16 U.S.C. 791(a)-825(r).

h. Applicant Contact: Justin Ahmann, Alpine Pacific Utilities Hydro, LLC, 75 Somers Road, Somers, Montana, 59932, (406) 755-1333.

i. FERC Contact: John Matkowski at (202) 502-8576; or email at john.matkowski@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 3, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14751-002.

m. The application is not ready for environmental analysis at this time.

n. The proposed project would utilize head from the existing Fresno Dam, intake with trashrack, and outlet structure owned and operated by the Bureau of Reclamation and consist of the following new facilities: (1) Two 150-foot-long penstocks consisting of (i) two 72-inch-diameter steel penstocks bifurcating into (ii) two 60-inch-diameter steel penstocks; (2) an underground powerhouse containing four 375-kilowatt Natel Energy turbines with a total rated capacity of 1.5 megawatts; (3) four discharge pipes diverting flows into the existing dam spillway; (4) a 25-square-foot switchyard; (5) an approximately 3.35-mile-long, 12.74-kilovolt partially underground transmission line; and (6) appurtenant facilities. The proposed project would have an average annual generation of 5,590 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Deficiency and/or Additional Information Letter—March 2017

Issue Notice of Acceptance—May 2017

Issue Scoping Document—June 2017

Issue Notice of Ready for Environmental Analysis—August 2017

Commission Issues EA—January 2018

Dated: February 14, 2017.
Kimberly D. Bose,
Secretary.

[FR Doc. 2017-03322 Filed 2-17-17; 8:45 am]

BILLING CODE 6717-01-P